ENVIRONMENTAL PROTECTION AGENCY

40 CFR Part 52

[EPA-R05-OAR-2008-0520; FRL 9748-9]

Approval and Promulgation of Implementation Plans; Michigan; Detroit-Ann Arbor Nonattainment Area; Fine Particulate Matter 2005 Base Year Emissions Inventory

AGENCY: Environmental Protection Agency (EPA).

ACTION: Final rule.

SUMMARY: EPA is approving the fine particulate matter (PM2.5) 2005 base year emissions inventory, a portion of the State Implementation Plan (SIP) revision submitted by the Michigan Department of Environmental Quality (MDEQ) on June 13, 2008. The emissions inventory is part of Michigan's SIP revision that was submitted to meet the nonattainment requirements related to the state's Detroit-Ann Arbor (Livingston, Macomb, Monroe, Oakland, St. Clair, Washtenaw, and Wayne Counties) nonattainment area for the 1997 annual PM2.5 national ambient air quality standards (NAAQS). This action is being taken pursuant to sections 110 and 172 of the Clean Air Act (CAA).

DATES: This final rule is effective on December 6, 2012.

ADDRESSES: EPA has established a docket for this action under Docket ID Number EPA-R05-OAR-2008-0520. All documents in these dockets are listed on the www.regulations.gov Web site. Although listed in the index, some information is not publicly available, e.g., CBI or other information whose disclosure is restricted by statute. Certain other material, such as copyrighted material, will be publicly available only in hard copy. Publicly available docket materials are available either electronically in www.regulations.gov or in hard copy at the U.S. Environmental Protection Agency, Region 5, Air and Radiation Division, 77 West Jackson Boulevard, Chicago, Illinois 60604. This facility is open from 8:30 a.m. to 4:30 p.m., Monday through Friday, excluding Federal holidays. We recommend that you telephone Carolyn Persoon at (312) 353-8290 before visiting the Region 5 office.

FOR FURTHER INFORMATION CONTACT: Carolyn Persoon, Environmental Engineer, Control Strategies Section, Air Programs Branch (AR-18J), Environmental Protection Agency, Region 5, 77 West Jackson Boulevard, Chicago, Illinois 60604, (312) 353-8290, persoon.carolyn@epa.gov.

SUPPLEMENTARY INFORMATION: Throughout this document whenever “we,” “us,” or “our” is used, we mean EPA. This supplementary information section is arranged as follows:

I. What action is EPA taking?

II. Final Action

III. Statutory and Executive Order Reviews

I. What action is EPA taking?

On August 1, 2012 (77 FR 45532), EPA published a proposed rulemaking to approve Michigan's PM2.5 2005 base year emissions inventory for the Detroit-Ann Arbor area. EPA did not receive any comments, adverse or otherwise, on the August 1, 2012, proposed rulemaking. Pursuant to section 110 and 172 of the CAA, EPA is now taking final action to approve the Detroit-Ann Arbor area PM2.5 2005 base year emissions inventory as provided in EPA's August 1, 2012, proposed rulemaking. A summary of the background for today's final action is provided below. For more detail, please refer to EPA's proposed rulemaking at 77 FR 45532.

Section 172(c)(3) of the CAA requires areas to submit a comprehensive, accurate, and current inventory from all sources of actual emissions of the relevant pollutant or pollutants in such area. Michigan selected 2005 as the base year for the emissions inventory per 40 CFR 51.1008(b). Emissions contained in Michigan's SIP revision covered the general source categories of point sources, non-road mobile sources, area sources, marine, aircraft and rail, and on-road mobile sources. A detailed discussion of the emissions inventory and its development can be found in the August 1, 2012, proposal. EPA has reviewed Michigan's Detroit-Ann Arbor PM2.5 2005 base year emissions inventory and has determined that it is adequate for the purposes of meeting the section 172(c)(3) emissions inventory requirement. Further, EPA has made the determination that the emissions were developed consistent with the CAA, implementing regulations, and EPA guidance for emission inventories.

II. Final Action

EPA is taking final action to approve the PM2.5 2005 base year emissions inventory portion of the SIP revision submitted by MDEQ on June 13, 2008, consistent with sections 110 and 172 of the CAA.

III. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this final action merely approves state law as meeting Federal requirements and does not impose additional requirements beyond those imposed by state law. For that reason, this final action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by January 7, 2013. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Particulate matter, Reporting and recordkeeping requirements.

Dated: October 19, 2012.
Susan Hedman,
Regional Administrator, Region 5.

40 CFR part 52 is amended as follows:

PART 52—APPROVAL AND PROMULGATION OF IMPLEMENTATION PLANS

1. The authority citation for part 52 continues to read as follows:

Authority: 42 U.S.C. 7401 et seq.

2. In § 52.1170 the table in paragraph (e) is amended by adding a new entry for “1997 Annual Fine Particulate Matter 2005 Base Year Emissions Inventory” at the end of the table to read as follows:

§ 52.1170 Identification of plan.

* * * * *

(e) * * *

EPA-Approved Michigan Nonregulatory and Quasi-Regulatory Provisions
Name of nonregulatory SIP provision | Applicable geographic or nonattainment area | State submittal date | EPA approval date | Comments
* * * * * * *
1997 Annual Fine Particulate Matter 2005 Base Year Emissions Inventory | Detroit-Ann Arbor area (Livingston, Macomb, Monroe, Oakland, St. Clair, Washtenaw, and Wayne Counties) | 6/13/08 | 11/6/12 [INSERT CITATION OF PUBLICATION] |

[FR Doc. 2012-26962 Filed 11-5-12; 8:45 am]

BILLING CODE 6560-50-P